ENVIRONMENTAL PROTECTION AGENCY

[FRL-8160-5]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2200.01; Secondary Non-Ferrous Metal Processing Area Source Standard Development Questionnaire; was approved 03/14/2006; OMB Number 2060-0576; expires March 31, 2009.

EPA ICR No. 1188.08; TSCA section 5(a)(2) Significant New Use Rules for Existing Chemicals (Renewal); in 40 CFR part 721; was approved March 16, 2006; OMB Number 2070-0038; expires March 31, 2009.

EPA ICR No. 0152.08; Notice of Arrival of Pesticides and Devices (FIFRA); was approved March 31, 2006; in 19 CFR part 12; OMB Number 2070-0020; expires March 31, 2009.

EPA ICR No. 1426.07; EPA Worker Protection Standards for Hazardous Waste Operations and Emergency Response (Renewal); was approved March 21, 2006; OMB Number 2050-0105; expires March 31, 2009.

EPA ICR No. 1286.07; Used Oil Management Standards Recordkeeping and Reporting Requirements (Renewal); in 40 CFR 279.42, 40 CFR 279.43(c), 40 CFR 279.44, 40 CFR 279.45(g), 40 CFR 279.46, 40 CFR 279.51, 40 CFR 279.52(a)(6), 40 CFR 279.52(b), 40 CFR 279.53, 40 CFR 279.54(f), 40 CFR 279.54(h)(1), 40 CFR 279.55, 40 CFR 279.56, 40 CFR 279.57, 40 CFR 279.62, 40 CFR 279.63, 40 CFR 279.64(f), 40 CFR 279.65, 40 CFR 279.66, 40 CFR 279.72, 40 CFR 279.73, 40 CFR 279.74, 40 CFR 279.75(a), 40 CFR 279.82(b); was approved March 16, 2006; OMB Number 2050-0124; expires March 31, 2009.

EPA ICR No. 1130.08; NSPS for Grain Elevators (Renewal); in 40 CFR part 60, subpart DD; was approved March 23, 2006; OMB Number 2060-0082; expires March 31, 2009.

EPA ICR No. 2027.03; NESHAP for Flexible Polyurethane Foam Fabrication (Renewal); in 40 CFR part 63, subpart MMMMM; was approved March 28, 2006; OMB Number 2060-0516; expires March 31, 2009.

EPA ICR No. 0111.11; NESHAP for Asbestos (Renewal); in 40 CFR part 61, subpart M; OMB Number 2060-0101; was approved April 3, 2006; OMB Number 2060-0101; expires April 30, 2009.

EPA ICR No. 2032.05; NESHAP for Hydrochloric Acid Production (Final Rule); in 40 CFR part 63, subpart NNNN; was approved April 3, 2006; OMB Number 2060-0529; expires July 31, 2006.

EPA ICR No. 1698.06; Reporting and Recordkeeping Requirements Under EPA's Waste Wise Program (Renewal); was approved March 29, 2006; OMB Number 2050-0139; expires April 30, 2007.

EPA ICR No. 1755.07; Regulatory Pilot Projects (Renewal); was approved March 28, 2006; OMB Number 2010-0026; expires October 21, 2007.

Comment Filed

EPA ICR No. 1230.18; Prevention of Significant Deterioration and Nonattainment New Source Review: Emissions Test for Electric Generating Units (Proposed Rule); OMB Number 2060-0003; OMB filed comments on March 24, 2006.

EPA ICR No. 1415.06; NESHAP for Perchloroethylene Dry Cleaning Facilities (Proposed Rule for Leak Detection); in 40 CFR part 63, subpart M; OMB Number 2060-0234; OMB filed comments on March 28, 2006.

EPA ICR No. 1801.05; NESHAP from the Portland Cement Manufacturing Industry (Proposed Rule); OMB Number 2060-0416; OMB filed comments on March 28, 2006.

EPA ICR No. 2170.01; Air Emissions Reporting Requirements (AERR) Proposed Amendments; in 40 CFR part 51, subpart A; 40 CFR 51.122; OMB filed comments on March 30, 2006.

Dated: April 10, 2006.
Oscar Morales,
Director, Collection Strategies Division.

[FR Doc. E6-6006 Filed 4-20-06; 8:45 am]

BILLING CODE 6560-50-P